DEPARTMENT OF ENERGY

Federal Energy Regulatory Commission

[Docket No. CP18-45-000]

Notice of Schedule for Environmental Review of the Dominion Energy Transmission, Inc. Sweden Valley Project

On January 10, 2018, Dominion Energy Transmission, Inc. (Dominion) filed an application in Docket No. CP18-45-000 requesting a Certificate of Public Convenience and Necessity pursuant to section 7(c) of the Natural Gas Act to construct and operate certain natural gas pipeline facilities. The proposed project is known as the Sweden Valley Project (Project), and involves the construction and operation of facilities located in Licking and Tuscarawas Counties, Ohio and Armstrong, Clinton, and Greene Counties, Pennsylvania. The Project would enable Dominion to provide 120,000 dekatherms per day of firm transportation service from Pennsylvania to Ohio for delivery to Tennessee Gas Pipeline Company, LLC.

On January 24, 2018, The Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—August 31, 2018

90-Day Federal Authorization Decision Deadline—November 29, 2018

If a schedule change becomes necessary, additional notice will be provided so that the relevant agencies are kept informed of the Project's progress.

Project Description

Dominion proposes to construct and operate the following facilities Ohio: construction of 1.7 miles 20-inch-diameter lateral to the new Port Washington Metering and Regulation (M&R) delivery point in Tuscarawas County, re-wheel compressors on three existing centrifugal compression sets at Dominion's existing Newark Compressor Station in Licking County, and construction of a pig launcher/receiver south of the existing Gilmore M&R station in Tuscarawas County.

In addition, Dominion proposes to construct and operate the following facilities in Pennsylvania: 3.2 miles of 24-inch-diameter pipeline looping in Greene County (TL-654 PA Loop), installation of regulation equipment at Dominion's existing South Bend Compressor Station in Armstrong County and Leidy M&R Station in Clinton County, and new mainline gate valves at the proposed TL-654 PA Loop in Greene County.

Background

On March 13, 2018, the Commission issued a Notice of Intent to Prepare an Environmental Assessment for the Proposed Sweden Valley Project and Request for Comments on Environmental Issues (NOI). The NOI was sent to affected landowners; federal, state, and local governmental representatives and agencies; elected officials; environmental and public interest groups; potentially interested Indian tribes; and local libraries and newspapers. In response to the NOI, we received a total of 15 comments letters. The comments addressed support for the project, purpose and need, water resources and wetlands, geology, vegetation, wildlife, fisheries, threatened and endangered species, land use and recreation, air quality/greenhouse gas emissions, alternative analysis, tribal cultural resources and the National Historic Preservation Act, and cumulative impacts. All substantive comments will be addressed in the EA.

The U.S. Army Corps of Engineers is a federal cooperating agency who is assisting us in preparing this EA because they have jurisdiction by law or special expertise with respect to environmental impacts associated with Dominion's proposal.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e. CP18-45), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 21, 2018.
Nathaniel J. Davis, Sr.,
Deputy Secretary.

[FR Doc. 2018-18464 Filed 8-24-18; 8:45 am]

BILLING CODE 6717-01-P